DEPARTMENT OF DEFENSE

Office of the Secretary

[Docket ID: DOD-2020-OS-0101]

Proposed Collection; Comment Request

AGENCY: Office of the Undersecretary of Defense for Acquisition and Sustainment, Department of Defense (DoD).

ACTION: Information collection notice.

SUMMARY: In compliance with the Paperwork Reduction Act of 1995, the Office of the Undersecretary of Defense for Acquisition and Sustainment announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 1, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OUSD(A&S) Chief Information Security Office, 3015 Defense Pentagon, Washington, DC. Attn: Ms. Katherine Arrington, 703-695-9332.

SUPPLEMENTARY INFORMATION: Title; Associated Form; and OMB Number: Trusted Capital Digital Marketplace Application; OMB Control Number 0704-XXXX.

Needs and Uses: Per the authority vested in the Secretary of Defense (SECDEF) by Section 1711 of the National Defense Authorization Act of 2018, the Office of the Under Secretary of Defense for Acquisition and Sustainment (OUSD(A&S)) has proposed a “Trusted Capital” initiative in the form of a public-private partnership designed to convene trusted sources of private capital with innovative companies critical to the defense industrial base (DIB) and national security. The initiative includes establishment of a Trusted Capital Digital Marketplace (TCDM) to facilitate business relationships between eligible investors (“Capital Providers”) and eligible small and medium-sized businesses that have been “down-selected” by Department of Defense (DoD) Components based on relevancy, technical merit, business viability, or innovativeness (“Capability Providers”). The COVID-19 pandemic highlighted the criticality of the security and resiliency of defense supply chains. The Federal emergency enabled DoD to accelerate initiatives to identify constraints and risks in our supply chains that were initially identified in the Executive Order (E.O.) 13806 report, which was published in 2018. One of the risk archetypes identified in the report is foreign dependency on capital and supply chains. Although DoD will always have a diverse, domestic and international supply chain, we recognize that this comes with some risk. COVID-19 magnified that risk and the difficulties of offshore sources of capital and supply in times of global emergencies. The OUSD(A&S) Trusted Capital program offers critical technology companies an alternative to adversarial capital. To accomplish this important national security mission the Trusted Capital program requires the ability to gather data required to conduct national security and supply chain due-diligence to prioritize “trusted” sources of commercial capital to offset direct financial distress in the DIB and support our partners affected by the virus with investments and local job creation. Information collected will be used in determining an applicant's eligibility for TCDM participation. Parties will complete an electronic application and be subjected to a due diligence screening process to assess for adversarial foreign ownership, influence, or control—as well as other national security risks. In the event additional information is necessary to process an application, additional inquiries may be sent to the applicant. Applicants that receive a favorable due diligence screening adjudication by OUSD(A&S) will be approved for TCDM participation. In addition to initial application requirements, participants will be subject to continuous reporting obligations.

Affected Public: Business or other for-profit.

Annual Burden Hours: 450 hours.

Number of Respondents: 300.

Responses per Respondent: 1.

Annual Responses: 300.

Average Burden per Response: 1.5 hours.

Frequency: Annually.

Dated: November 25, 2020.
Aaron T. Siegel,
Alternate OSD Federal Register Liaison Officer, Department of Defense.

[FR Doc. 2020-26524 Filed 11-30-20; 8:45 am]

BILLING CODE 5001-06-P